DEPARTMENT OF TRANSPORTATION

Federal Aviation Administration

14 CFR Part 39

[Docket No. FAA-2009-0886 Directorate Identifier 2009-CE-045-AD; Amendment 39-16109; AD 2009-24-15]

RIN 2120-AA64

Airworthiness Directives; SOCATA Model TBM 700 Airplanes

AGENCY: Federal Aviation Administration (FAA), Department of Transportation (DOT).

ACTION: Final rule.

SUMMARY: We are adopting a new airworthiness directive (AD) for the products listed above. This AD results from mandatory continuing airworthiness information (MCAI) issued by an aviation authority of another country to identify and correct an unsafe condition on an aviation product. The MCAI describes the unsafe condition as:

It was noticed on assembly line an elongation of bolts connecting power leads on R700 and R701 shunts. An incorrect tightening torque value is likely to be the cause of the elongation.

This condition, if left uncorrected could lead to heating, electrical arcing or smokes and could result in an in-flight loss of electrical power.

We are issuing this AD to require actions to correct the unsafe condition on these products.

DATES: This AD becomes effective January 4, 2010.

On January 4, 2010, the Director of the Federal Register approved the incorporation by reference of certain publications listed in this AD.

ADDRESSES: You may examine the AD docket on the Internet at http://www.regulations.gov or in person at Document Management Facility, U.S. Department of Transportation, Docket Operations, M-30, West Building Ground Floor, Room W12-140, 1200 New Jersey Avenue, SE., Washington, DC 20590.

FOR FURTHER INFORMATION CONTACT: Albert Mercado, Aerospace Engineer, FAA, Small Airplane Directorate, 901 Locust, Room 301, Kansas City, Missouri 64106; telephone: (816) 329-4119; fax: (816) 329-4090.

SUPPLEMENTARY INFORMATION:

Discussion

We issued a notice of proposed rulemaking (NPRM) to amend 14 CFR part 39 to include an AD that would apply to the specified products. That NPRM was published in the Federal Register on September 28, 2009 (74 FR 49345). That NPRM proposed to correct an unsafe condition for the specified products. The MCAI states:

It was noticed on assembly line an elongation of bolts connecting power leads on R700 and R701 shunts. An incorrect tightening torque value is likely to be the cause of the elongation.

This condition, if left uncorrected could lead to heating, electrical arcing or smokes and could result in an in-flight loss of electrical power.

For the reason described above, this Airworthiness Directive (AD) mandates the replacement of the power lead bolts on R700 and R701 shunts.

Comments

We gave the public the opportunity to participate in developing this AD. We have considered the comment received.

Comment Issue: Costs of Compliance

Ms. Catherine Hérau, SOCATA, states the cost of the required parts (4 bolts) is $10, not $50. Consequently, the cost of the proposed AD on U.S. operators is $2,350 or $50 per product.

We agree with the commenter, and we are changing the costs of compliance in the final rule AD action to reflect the more accurate estimated costs.

Conclusion

We reviewed the available data, including the comment received, and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

Costs of Compliance

We estimate that this AD will affect 47 products of U.S. registry. We also estimate that it will take about 0.5 work-hour per product to comply with the basic requirements of this AD. The average labor rate is $80 per work-hour. Required parts will cost about $10 per product. Where the service information lists required parts costs that are covered under warranty, we have assumed that there will be no charge or a lower charge for these parts. As we do not control warranty coverage for affected parties, some parties may incur costs higher than estimated here.

Based on these figures, we estimate the cost of this AD to the U.S. operators to be $2,350 or $50 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://www.regulations.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-24-15 SOCATA: Amendment 39-16109; Docket No. FAA-2009-0886; Directorate Identifier 2009-CE-045-AD.

Effective Date

(a) This airworthiness directive (AD) becomes effective January 4, 2010.

Affected ADs

(b) None.

Applicability

(c) This AD applies to TBM 700 airplanes, serial numbers 434 through 502, and serial numbers 504 and 505, certificated in any category.

Subject

(d) Air Transport Association of America (ATA) Code 24: Electric Power.

Reason

(e) The mandatory continuing airworthiness information (MCAI) states:

It was noticed on assembly line an elongation of bolts connecting power leads on R700 and R701 shunts. An incorrect tightening torque value is likely to be the cause of the elongation.

This condition, if left uncorrected could lead to heating, electrical arcing or smokes and could result in an in-flight loss of electrical power.

For the reason described above, this Airworthiness Directive (AD) mandates the replacement of the power lead bolts on R700 and R701 shunts.

Actions and Compliance

(f) Unless already done, within the next 100 hours time-in-service after January 4, 2010 (the effective date of this AD), or within the next 12 months after January 4, 2010 (the effective date of this AD), whichever occurs first, replace the bolts of shunts R700 and R701 following DAHER-SOCATA Mandatory Service Bulletin SB 70-169, dated May 2009.

FAA AD Differences

Note: This AD differs from the MCAI and/or service information as follows: No differences.

Other FAA AD Provisions

(g) The following provisions also apply to this AD:

(1) Alternative Methods of Compliance (AMOCs): The Manager, Standards Office, FAA, has the authority to approve AMOCs for this AD, if requested using the procedures found in 14 CFR 39.19. Send information to Attn: Albert Mercado, Aerospace Engineer, FAA, Small Airplane Directorate, 901 Locust, Room 301, Kansas City, Missouri 64106; telephone: (816) 329-4119; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to MCAI EASA AD No.: 2009-0174, dated August 11, 2009; and DAHER-SOCATA Mandatory Service Bulletin SB 70-169, dated May 2009, for related information.

Material Incorporated by Reference

(i) You must use DAHER-SOCATA Mandatory Service Bulletin SB 70-169, dated May 2009, to do the actions required by this AD, unless the AD specifies otherwise.

(1) The Director of the Federal Register approved the incorporation by reference of this service information under 5 U.S.C. 552(a) and 1 CFR part 51.

(2) For service information identified in this AD, contact SOCATA, 65921—TARBES Cedex 9, France; telephone: +33 6 07 32 62 24; or SOCATA NORTH AMERICA, INC., North Perry Airport, 7501 South Airport Rd., Pembroke Pines, Florida 33023; telephone: (954) 893-1400; fax: (954) 964-4141; Internet: http://mysocata.com.

(3) You may review copies of the service information incorporated by reference for this AD at the FAA, Central Region, Office of the Regional Counsel, 901 Locust, Kansas City, Missouri 64106. For information on the availability of this material at the Central Region, call (816) 329-3768.

(4) You may also review copies of the service information incorporated by reference for this AD at the National Archives and Records Administration (NARA). For information on the availability of this material at NARA, call (202) 741-6030, or go to: http://www.archives.gov/federal_register/code_of_federal_regulations/ibr_locations.html.

Issued in Kansas City, Missouri, on November 19, 2009.
Patrick R. Mullen,
Acting Manager, Small Airplane Directorate, Aircraft Certification Service.

[FR Doc. E9-28305 Filed 11-27-09; 8:45 am]

BILLING CODE 4910-13-P